DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08N146B, Rockville, MD 20857; (301) 443-6593, or visit our website at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on January 1, 2019, through January 31, 2019. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the U.S. Court of Federal Claims at the address listed above (under the heading For Further INformation Contact), with a copy to HRSA addressed to Director, Division of Injury Compensation Programs, Healthcare Systems Bureau, 5600 Fishers Lane, 08N146B, Rockville, MD 20857. The Court's caption (Petitioner's Name v. Secretary of Health and Human Services) and the docket number assigned to the petition should be used as the caption for the written submission. Chapter 35 of title 44, United States Code, related to paperwork reduction, does not apply to information required for purposes of carrying out the Program.

Dated: February 13, 2019.
George Sigounas,
Administrator.

List of Petitions Filed

1. Theresa Collins, Grantsville, West Virginia, Court of Federal Claims No: 19-0001V

2. Cecilia Ortiz, Houston, Texas, Court of Federal Claims No: 19-0002V

3. Sarah K. Jones, Wilmington, North Carolina, Court of Federal Claims No: 19-0003V

4. Tushar Master, Lowell, Massachusetts, Court of Federal Claims No: 19-0006V

5. Paul Christensen, Redmond, Washington, Court of Federal Claims No: 19-0007V

6. Elizabeth Wurdell, Hutchinson, Minnesota, Court of Federal Claims No: 19-0008V

7. Branden Richter, Waupun, Wisconsin, Court of Federal Claims No: 19-0009V

8. Kathryn Keeney, Wesley Chapel, Florida, Court of Federal Claims No: 19-0011V

9. Amy Skopak, Jacksonville, Florida, Court of Federal Claims No: 19-0012V

10. Gary Tucker, Phoenix, Arizona, Court of Federal Claims No: 19-0013V

11. Ann Schnitzer, Melbourne, Florida, Court of Federal Claims No: 19-0015V

12. Lauren Wood, Pittsfield, Massachusetts, Court of Federal Claims No: 19-0016V

13. Anthony Lawler, Brewer, Maine, Court of Federal Claims No: 19-0017V

14. Marie T. Haufle, Evanston, Illinois, Court of Federal Claims No: 19-0018V

15. George Nava, San Antonio, Texas, Court of Federal Claims No: 19-0019V

16. Duane Hutton, Baker City, Oregon, Court of Federal Claims No: 19-0020V

17. Dennis Schmitt, Richardson, Texas, Court of Federal Claims No: 19-0021V

18. Rebecca Smith, Washington, District of Columbia, Court of Federal Claims No: 19-0022V

19. Lesia Jones, Birmingham, Alabama, Court of Federal Claims No: 19-0023V

20. Jolene Snyder, Boone, North Carolina, Court of Federal Claims No: 19-0024V

21. Barry Negri, Howell, New Jersey, Court of Federal Claims No: 19-0028V

22. Mark Zwartz, Chicago, Illinois, Court of Federal Claims No: 19-0029V

23. Matthew Spencer, Washington, District of Columbia, Court of Federal Claims No: 19-0030V

24. Debra L. Sargent, Minneapolis, Minnesota, Court of Federal Claims No: 19-0031V

25. Shirley Tarrant, Greenville, South Carolina, Court of Federal Claims No: 19-0032V

26. Joel Tarantal, Tucson, Arizona, Court of Federal Claims No: 19-0033V

27. Susan TeHennepe, Murfreesboro, Tennessee, Court of Federal Claims No: 19-0034V

28. Linda Wilson, Charleston, South Carolina, Court of Federal Claims No: 19-0035V

29. Saum Eshraghi, Irvine, California, Court of Federal Claims No: 19-0039V

30. Ennis H. Pratcher, Toledo, Ohio, Court of Federal Claims No: 19-0044V

31. Jean Wingard, McMurray, Pennsylvania, Court of Federal Claims No: 19-0045V

32. Susan Martin, San Jose, California, Court of Federal Claims No: 19-0050V

33. Kathleen Schmid, St. Paul, Minnesota, Court of Federal Claims No: 19-0051V

34. Ryan Larsen and Samantha Glover on behalf of D.L., Newburgh, Indiana, Court of Federal Claims No: 19-0056V

35. Javier Colon on behalf of S.C., Rochester, New York, Court of Federal Claims No: 19-0057V

36. Behrooz Mozaffarian, La Mesa, California, Court of Federal Claims No: 19-0060V

37. Leah Polaske, Wellesley Hills, Massachusetts, Court of Federal Claims No: 19-0062V

38. Susan B. Acon on behalf of Agnes Biagini, Deceased, Charleroi, Pennsylvania, Court of Federal Claims No: 19-0064V

39. Kelsey Pomare, Somerville, Massachusetts, Court of Federal Claims No: 19-0065V

40. Heather Geldbach on behalf of Wendy G. Strickland, Deceased, Greensboro, North Carolina, Court of Federal Claims No: 19-0066V

41. William Kritz, Saint Cloud, Florida, Court of Federal Claims No: 19-0068V

42. Jeffrey Barton, Woodland Hills, California, Court of Federal Claims No: 19-0069V

43. Sally Herms, New York, New York, Court of Federal Claims No: 19-0070V

44. Andrea Morgan, Glendale, Arizona, Court of Federal Claims No: 19-0071V

45. John Hendricks, Kirkland, Washington, Court of Federal Claims No: 19-0072V

46. Irma Carmona, Santa Ana, California, Court of Federal Claims No: 19-0073V

47. Karena Harrison on behalf of A.N., Jacksonville, Florida, Court of Federal Claims No: 19-0074V

48. Galia Greenberg, Bethesda, Maryland, Court of Federal Claims No: 19-0075V

49. Maxine Paul, Dallas, Texas, Court of Federal Claims No: 19-0076V

50. Valorie Scamyhorn Hodges, Columbus, Ohio, Court of Federal Claims No: 19-0078V

51. Emily Meacham and Christopher Ryan St. Andre on behalf of Joey Lynn Bates, Deceased, Waynesboro, Tennessee, Court of Federal Claims No: 19-0079V

52. Tina D'Errico and Paul D'Errico on behalf of R.D., Rockville Center, New York, Court of Federal Claims No: 19-0081V

53. Wade Hutton, Ironwood, Michigan, Court of Federal Claims No: 19-0082V

54. Elaine Mercante, Hammond, Louisiana, Court of Federal Claims No: 19-0084V

55. Hector A. Licon, Jr., San Antonio, Texas, Court of Federal Claims No: 19-0088V

56. Matthew Doye and Renee Doye on behalf of J.R.D., Carmel, Indiana, Court of Federal Claims No: 19-0089V

57. Charles Shane Roberson, Evansville, Indiana, Court of Federal Claims No: 19-0090V

58. Michael Bisceglia and Lori Bisceglia on behalf of N.E.B., North Charleston, South Carolina, Court of Federal Claims No: 19-0091V

59. Michele Solari, Norwell, Massachusetts, Court of Federal Claims No: 19-0092V

60. Daniel Ferrari, Joliet, Illinois, Court of Federal Claims No: 19-0093V

61. Matthew Golitko and Raygan Golitko on behalf of G.M.G., Carmel, Indiana, Court of Federal Claims No: 19-0096V

62. Lisa Egger, Louisville, Kentucky, Court of Federal Claims No: 19-0098V

63. Cheryl Kowal, Reading, Pennsylvania, Court of Federal Claims No: 19-0099V

64. Ana Galan, Kansas City, Missouri, Court of Federal Claims No: 19-0100V

65. Brian Van Vickle, Forest Lake, Minnesota, Court of Federal Claims No: 19-0101V

66. Chester Godek, Garden City, New York, Court of Federal Claims No: 19-0106V

67. Bernaleo Henderson, Sarasota, Florida, Court of Federal Claims No: 19-0107V

68. Christine Heil, Flint, Michigan, Court of Federal Claims No: 19-0109V

69. Duane Hoffman, Marion, Ohio, Court of Federal Claims No: 19-0111V

70. Riley Truttman, Mequon, Wisconsin, Court of Federal Claims No: 19-0112V

71. Leticia L. Lafosse, White Plains, New York, Court of Federal Claims No: 19-0113V

72. Laurie Bishara, Parkland, Florida, Court of Federal Claims No: 19-0115V

73. James D. Daughtery, Richmond, Kentucky, Court of Federal Claims No: 19-0116V

74. Steven E. Ovenden, Townshend, Vermont, Court of Federal Claims No: 19-0117V

75. Theresa Marich, East Brunswick, New Jersey, Court of Federal Claims No: 19-0119V

76. Zahra Aden, Centreville, Virginia, Court of Federal Claims No: 19-0120V

77. Jane Reininger, San Diego, California, Court of Federal Claims No: 19-0122V

78. Meghan Kouba, Columbia, Missouri, Court of Federal Claims No: 19-0123V

79. Andrea Miller, Dallas, Texas, Court of Federal Claims No: 19-0128V

80. Mamie Porter, Waukegan, Illinois, Court of Federal Claims No: 19-0130V

81. Rebecca Reske and Timothy Reske on behalf of J.R., Reisterstown, Maryland, Court of Federal Claims No: 19-0131V

82. Karl Tiedemann, Jr., Port Charlotte, Florida, Court of Federal Claims No: 19-0132V

83. Sueann Staskewicz, Tabernacle, New Jersey, Court of Federal Claims No: 19-0133V

84. Kristan McMahon, Clifton Park, New York, Court of Federal Claims No: 19-0134V

85. Marguerite Bradley, Spring Hill, Florida, Court of Federal Claims No: 19-0135V

86. Burnell Buckwalter, Florence, South Carolina, Court of Federal Claims No: 19-0136V

87. Britta Schwartz, Portland, Oregon, Court of Federal Claims No: 19-0137V

88. Madison Edwards, Lake Charles, Louisiana, Court of Federal Claims No: 19-0138V

89. Dana Chambers, Phoenix, Arizona, Court of Federal Claims No: 19-0140V

90. Marsha Goldberg, Cockeysville, Maryland, Court of Federal Claims No: 19-0142V

91. Sean Farrelly, Portland, Oregon, Court of Federal Claims No: 19-0143V

92. Cynthia Thomas, Atlanta, Georgia, Court of Federal Claims No: 19-0144V

93. Rene Reaska, Buffalo, New York, Court of Federal Claims No: 19-0145V

94. Mohamed Idli, Charlotte, North Carolina, Court of Federal Claims No: 19-0146V

95. Lisa M. Jackson, Eagan, Minnesota, Court of Federal Claims No: 19-0147V

96. Kathie M. Hale, Salyersville, Kentucky, Court of Federal Claims No: 19-0154V

97. Noah Scott Campbell, Dresher, Pennsylvania, Court of Federal Claims No: 19-0156V

98. Tina McFarlin, San Juan Capistrano, California, Court of Federal Claims No: 19-0157V

99. Jeffrey Dobyns, Birmingham, Alabama, Court of Federal Claims No: 19-0158V

100. Barbara Miller, Appleton, Wisconsin, Court of Federal Claims No: 19-0160V

101. Victor Velazquez, White Plains, New York, Court of Federal Claims No: 19-0162V

102. Amy J. Johnson on behalf of P.J., Jefferson City, Missouri, Court of Federal Claims No: 19-0163V

103. David Sazera, Dallas, Texas, Court of Federal Claims No: 19-0164V

104. Amy Moreno, Riverside, California, Court of Federal Claims No: 19-0170V

105. Brian Hahn, Cheektowaga, New York, Court of Federal Claims No: 19-0172V

106. Richard Booth, Amarillo, Texas, Court of Federal Claims No: 19-0174V

107. Bonnie Locke, Punta Gorda, Florida, Court of Federal Claims No: 19-0175V

108. Jessica R. Boatwright, Greensboro, North Carolina, Court of Federal Claims No: 19-0176V

109. Samantha Frost, Phoenix, Maryland, Court of Federal Claims No: 19-0177V

110. Cynthia McVeigh, Eustis, Florida, Court of Federal Claims No: 19-0178V

111. Teresa Leon, Yuba City, California, Court of Federal Claims No: 19-0179V

112. Misty Lotz, Brownsville, Texas, Court of Federal Claims No: 19-0180V

113. Valerie Eldridge, Little Rock, Arkansas, Court of Federal Claims No: 19-0181V

114. Michael Kahn, Berlin, New Jersey, Court of Federal Claims No: 19-0182V

115. Dulce Concepcion Muller-Carillo, Los Angeles, California, Court of Federal Claims No: 19-0183V

116. Janis Edminster, Placerville, California, Court of Federal Claims No: 19-0184V

117. Christopher Agard, Victorville, California, Court of Federal Claims No: 19-0185V

118. Diana Schmauder, Newberg, Oregon, Court of Federal Claims No: 19-0186V

[FR Doc. 2019-02948 Filed 2-20-19; 8:45 am]

BILLING CODE 4165-15-P